DEPARTMENT OF AGRICULTURE

Forest Service

Siuslaw Resource Advisory Committee Meeting

AGENCY: Forest Service, USDA.

ACTION: Notice of meeting.

SUMMARY: The Siuslaw Resource Advisory Committee (RAC) will meet on March 8, 2002. The meeting will begin at 9:00 a.m., in the Hatfield Marine Sciences Center, Room 9, at 2030 SW Marine Sciences Drive, Newport, OR. Agenda item will include: a review of projects submitted by entities other than the Forest Service; a continuation of the review of Forest Service projects that may be recommended to the Forest Supervisor for funding with Title II dollars; consideration of the draft bylaws for the Siuslaw RAC; and, a public comment period. The meeting is expected to adjourn at 4:00 p.m. Interested citizens are encouraged to attend.

FOR FURTHER INFORMATION CONTACT: Linda Stanley, Community Development Specialist, Siuslaw National Forest, 541/750-7210 or write to Forest Supervisor, Siuslaw National Forest, P.O. Box 1148, Corvallis, OR 97339.

Dated: February 19, 2002.
Gloria D. Brown,
Forest Supervisor.

[FR Doc. 02-4363 Filed 2-22-02; 8:45 am]

BILLING CODE 3410-11-M